DEPARTMENT OF AGRICULTURE

Foreign Agricultural Service

Notice of Request for a Revision of a Currently Approved Information Collection

AGENCY: Foreign Agricultural Service, Agriculture (USDA).

ACTION: Notice and request for comments.

SUMMARY: In accordance with the Paperwork Reduction Act of 1995, this notice announces that the Foreign Agricultural Service (FAS) intends to request a revision of a currently approved information collection for Sugar Import Licensing Programs.

DATES: Comments should be received on or before August 30, 2021 to be assured of consideration.

ADDRESSES: FAS invites interested persons to submit comments on this notice by any of the following methods:

□ Federal eRulemaking Portal: This website provides the ability to type short comments directly into the comment field or attach a file for lengthier comments. Go to https://www.regulations.gov. Follow the on-line instructions at the site for submitting comments.

□ Mail, hand delivery, or courier: William Janis, International Economist, Multilateral Affairs Division, Trade Policy and Geographic Affairs, Foreign Agricultural Service, U.S. Department of Agriculture, Room 5550, Stop 1070, 1400 Independence Ave. SW, Washington, DC 20250-1070.

□ Email: William.Janis@usda.gov. Include OMB Number 0551-0015 in the subject line of the message.

All comments submitted must include the agency name and OMB Number below. Comments received in response to this docket will be made available for public inspection and posted without change, including any personal information, online at http://www.regulations.gov and at the mail address listed above between 8:00 a.m. and 4:30 p.m., Monday through Friday, except holidays.

Persons with disabilities who require an alternative means for communication of information (e.g., Braille, large print, audiotape, etc.) should contact Angela Ubrey (Human Resources, 202-772-4836) or Constance Goodwin (Office of Civil Rights, 202-379-6431).

FOR FURTHER INFORMATION CONTACT: William Janis at the address stated above, by telephone at (202) 720-2194 or by email at: William.Janis@usda.gov.

SUPPLEMENTARY INFORMATION: Title: Sugar Imported for Export as Refined Sugar or as Sugar-Containing Products or used in the Production of Certain Polyhydric Alcohols.

OMB Number: 0551-0015.

Expiration Date of Approval: August 31, 2021.

Type of Request: Revision of a currently approved information collection.

Abstract: The primary objective of the Sugar Import Licensing Program is to permit entry of raw cane sugar, unrestricted by the quantitative limit established by the sugar tariff-rate quota, for re-export in refined form or in sugar containing products or for production of certain polyhydric alcohols. As many as 250 licensees are currently eligible to participate in these programs.

Estimate of Burden: The public reporting burden for each respondent resulting from information collection under the USDA Sugar Import Licensing Program varies in direct relation to the number and type of agreements entered into by such respondent. The estimated average reporting burden for the USDA Sugar Import Licensing Program is 0.26 hours per response. Under 7 CFR part 1530, the information collected is used by the licensing authority to manage, plan, evaluate, and account for program activities. The reports and records are required to ensure the proper operations of these programs.

Respondents: Sugar refiners, manufacturers of sugar containing products, and producers of polyhydric alcohol.

Estimated Number of Respondents: 146.

Estimated Number of Responses per Respondent: 10.

Estimated Total Annual Burden on Respondents: 388 hours.

Request for Comments: The public is invited to submit comments and suggestions on all aspects of this information collection to help us to: (1) Evaluate whether the collection of information is necessary for the proper performance of FAS's functions, including whether the information will have practical utility; (2) Evaluate the accuracy of FAS's estimate of burden including the validity of the methodology and assumptions used; (3) Enhance the quality, utility and clarity of the information to be collected; and (4) Minimize the burden of the collection of information on those who are to respond, including through the use of appropriate automated, electronic, mechanical, or other technological collection techniques or other forms of information technology. Copies of this information collection can be obtained from Ronald Croushorn, the Agency Information Collection Coordinator, at (202) 720-3038 or e-mail at Ron.Croushorn@usda.gov.

All comments received in response to this notice, including names and addresses when provided, will be a matter of public record. Comments will be summarized and included in the submission for Office of Management and Budget approval.

E-Government Act Compliance

FAS is committed to complying with the E-Government Act of 2002 to promote the use of the internet and other information technologies to provide increased opportunities for citizen access to Government information and services, and for other purposes.

Daniel Whitley,
Acting Administrator, Foreign Agricultural Service.

[FR Doc. 2021-12736 Filed 6-29-21; 8:45 am]

BILLING CODE 3410-10-P